DEPARTMENT OF COMMERCE

National Oceanic and Atmospheric Administration

[Docket No. 030411083-3083-01]

RIN 0648-ZB40

Call for Proposals for Research in the Area of Climate and Weather Impacts on Society and the Environment

AGENCIES: National Climatic Data Center and Coastal Services Center, National Oceanic and Atmospheric Administration (NOAA); Department of Commerce.

ACTION: Notice of availability of Federal assistance.

SUMMARY: NOAA invites applications to establish a cooperative agreement with two of NOAA's centers, the National Climatic Data Center (NCDC) and the Coastal Services Center (CSC). In general terms, the agreement will be established to provide a collaborative environment between the National Climatic Data Center, the Coastal Services Center, and the recipient, within which a broad-based research program will be conducted that links climate and weather processes, the formation of severe events, and the impacts of these events for the region of the South Atlantic Bight, including the coastal ocean to the mountain environment. This announcement provides guidelines for the proposed cooperative agreement, and includes details for the technical program, proposal development, evaluation criteria, and competitive selection procedures. NOAA will collaborate on cooperative research and development activities and provide financial support to enhance the public benefits to be derived from the research results, including practical applications for the needs of coastal and inland communities. The selected applicant and NOAA will work together to engage the support of both the science and management communities, and ensure that a broad group of constituents will benefit from the products as well as contribute to their design and use. The agreement will be established based on ease and effectiveness of interaction and collaboration with the National Climatic Data Center and the Coastal Services Center, and/or expertise in areas related to the missions of NOAA, particularly the National Climatic Data Center and the Coastal Services Center. The selected applicant will also be expected to identify, and as appropriate, establish relationships with other NOAA program offices that may benefit from, or collaborate in, the work conducted under the cooperative agreement.

DATES: Complete applications must be received by the National Climatic Data Center no later than 4 p.m. May 22, 2003. Final selection is anticipated to be completed by approximately June 15, 2003. The anticipated start date is September 1, 2003.

ADDRESSES: Signed proposals, with two copies, should be submitted to: National Climatic Data Center; 151 Patton Avenue, Room 476, Asheville, NC 28801-5001. Proposals should cite this Notice and be sent to the attention of Linda Statler.

FOR FURTHER INFORMATION CONTACT: Administrative questions, Linda Statler, (828) 271-4657, Linda.S.Statler@noaa.gov. Technical point of contact is Marc Plantico, (828) 271-4765, Marc.Plantico@noaa.gov.

SUPPLEMENTARY INFORMATION: Funding Instrument: The selected recipient will enter into a 4-year cooperative agreement to support the development of a cooperative research program with NOAA's National Climatic Data Center and Coastal Services Center in the area of climate and weather impacts on society and the environment (including severe climate weather impacts in North and South Carolina).

Authority: Statutory authority for these programs is provided under 49 U.S.C. 44720; 33 U.S.C. 883d; 15 U.S.C. 2907; 16 U.S.C. 1451 et seq.; the Global Change Research Act, 15 U.S.C. 2921-2961; and the National Climate Program Act, 15 U.S.C. 2901-2908.

Catalog of Federal Domestic Assistance (CFDA): This program is listed in the Catalog of Federal Domestic Assistance under the Number 11.440, Environmental Sciences, Applications, Data, and Education.

Funding Availability: Funding for the first year (FY 2003) is anticipated to be approximately $375,000. Each additional year is anticipated to be approximately $400,000 per year thereafter for the term of the agreement. However, funding is contingent upon availability of appropriations and is at the sole discretion of NOAA. Funding for non-U.S. institutions and contractual arrangements for services and products for delivery to NOAA are not available under this announcement.

Cost Sharing: Applicant will be required to contribute at least 5 percent (from non-Federal funds) of the total amount contributed by NOAA each year if the application is approved. This should be shown in the budget.

Eligibility Criteria

Eligible organizations are limited to U.S. institutions. Eligible organizations are universities, non-profit organizations, for-profit organizations, State and local governments, and Indian Tribes. Multiple organizations may collaborate in submitting a single proposal, but the award will be made to a single organization with the primary responsibility for administration and execution of the agreement.

Program Description

The primary purpose of establishing a cooperative agreement is to bring together the resources of a research-oriented university or institution, the National Climatic Data Center, and the Coastal Services Center to collaborate on cooperative research and applications activities and to enhance the public benefits to be derived from these activities. NOAA envisions a sharing of expertise between the National Climatic Data Center, the Coastal Services Center, and the recipient in the areas of climate system variability impacts on regional scales; advanced observing and modeling of regional coastal ecosystem processes that are influenced by climate and weather; and the response of natural, economic, and social systems to climate variability. The geographic area for impacts is the region bordering the South Atlantic Bight, from the coastal areas to the mountain environment.

Program Priorities

Primary collaboration will be with the National Climatic Data Center located in Asheville, NC, and the Coastal Services Center located in Charleston, SC. Proposals should respond to the following research priorities:

(1) Climate System Variability Impacts on Regional Scales: Including, but not limited to, detecting global climate modes, trends, and variability; understanding downscaling, mechanisms and forcing of regional climate variability, particularly in coastal and near-coastal areas; and predicting protracted and abrupt coastal climate changes and the associated development of extreme events; improving the understanding of climate and weather influences on severe events; and helping to identify the data sets and tools needed for management applications to address these impacts in order to improve the resilience of coastal and in-land communities.

(2) Advanced Observing and Modeling of Regional Coastal Ecosystem Processes Influenced by Climate and Weather: Including, but not limited to, developing new measurement, data assimilation and management, and modeling techniques to characterize the state of the coastal ocean and atmosphere; advancing the understanding of the coastal zone processes that modulate regional climate and weather; and providing input for the prediction of severe events such as hurricanes, land-falling winter storms, and coastal storm surge and inland flooding.

(3) Response of Natural, Economic, and Social Systems to Climate and Weather Variability: Including, but not limited to, developing new tools to accurately measure indicators of change; creating new prognostic models capable of forecasting the response of ecosystems, such as mountains, piedmont lakes, estuaries, and coastal communities to climate variability and severe weather events; and developing new tools to enhance the resilience of natural, economic, and social systems to perturbations. Identify and design applications and models that improve the use and visualization of spatial and time-series data for the purpose of enhancing the delivery, utility, and content of information needed by emergency managers, coastal resource managers, business interests, and other users.

The cooperative agreement is meant to be an integral component in a coordinated research effort to produce the best possible deterministic and probabilistic information and projections of climate and weather variability and change, and related impacts on the environment and human systems. Research results will provide quality information that is socially and economically useful to decision makers at local, State and regional levels, both private and public. The cooperative agreement will promote and support research efforts designed to understand and apply learning in: (1) Atmospheric weather and climate systems and all associated parameters, e.g., surface air temperature and pressure, precipitation amount and type, relative humidity, wind speed and direction, and cloud cover; (2) coastal oceanic weather and climate systems parameters, e.g., sea surface temperature, ocean satellite altimetry, incident radiation, ocean satellite color (phytoplankton biomass, suspended material and colored dissolved material), scatterometer winds, phytoplankton primary productivity, coastal sea level, living marine resources, and nutrients; (3) terrestrial weather and climate systems parameters, e.g., soils, soil moisture content, distribution of habitat (vegetation type, terrain type, elevation and percent water), hydrology, including lake water levels and river discharge, nutrients, and topography; and (4) socioeconomic impact data, e.g., direct losses to human life, property, agricultural products, cleanup and response costs, disruptions to energy and transportation, and indirect losses due to temporary unemployment and business disruptions resulting from physical damage.

The applicant should identify a primary user base for the activities to be pursued, and the results to be obtained, under the agreement. The applicant should identify how members of this user community will be engaged, as appropriate, in the determination of research priorities, the communication of results, and the design and use of products.

Application Requirement

Standard Forms—Original Signed Copy

SF-424—Application for Federal Assistance

SF-424A—Budget Information—Non-Construction Program

SF-424B—Assurances—Non-Construction Program

CD-511—Certification Regarding Debarment, Suspension, and Other Responsibility Matters: Drug-Free Workplace Requirements and Lobbying

SF-LLL—Disclosure of Lobbying Activities (submit only if engaged in lobbying activities)

These forms and additional information are available on the NOAA Grants Homepage: http://www.ofa.noaa.gov/~grants/index.html.

Proposal Format: The guidelines for proposal preparation provided below are mandatory. Failure to heed these guidelines will result in proposals not being considered.

Proposals, a signed original and two copies, must be received by the National Climatic Data Center at the address identified in the ADDRESSES section of this notice no later than the time and date indicated in the DATES section of this Notice. Facsimile transmissions and electronic mail submissions will not be accepted. Late applications will not be considered. All proposals must include the sections identified below and total no more than 50 pages, including the title page, detailed budget, investigator(s) curriculum vitae, and all appendices. Appended information may not be used to circumvent the page length limit. Federally mandated forms are not included within the page count. Proposals should be submitted in double-space, 12-point format.

Proposals should provide a concise description of the proposed work. Proposals should provide a detailed description of the resources and capabilities of the host institution, specifically scientific expertise, specialized facilities, ongoing research activities, cost sharing abilities, and educational and training programs. The proposal should include the following elements:

(1) Signed Title Page. Cooperative Agreement for Climate and Weather Impacts on Society and the Environment (CWISE) (suggested name), the lead Principal Investigator, Partner names(s) (if any) and their respective affiliations, complete addresses, telephone, FAX, and e-mail information. The title page will also provide the total proposed cost, broken down on an annual basis for the four-year period. The title page should be signed by the Principal Investigators (PI(s)) and the institutional representative of the PI's organization.

(2) Goals and Objectives: Identify broad research goals and their relevance to the Program Priorities listed above, and a general description of how the applicant proposes to achieve those goals.

(3) Technical Approach: Describe the specific approach the applicant proposes to accomplish the identified purposes of the agreement. Describe plans to ensure ease and effectiveness of communication between applicant and NOAA partners.

(4) Project Partners and Co-Investigators: Identify project partners and/or co-investigators, their respective roles, and their contributions and/or relationships to the proposed effort. Outline the respective roles of the applicant and NOAA.

(5) Milestones, Time Lines, Outcomes, and Beneficiaries: List target milestones, time lines, and desired outcomes (in multi-year proposed efforts, by year). Identify the intended beneficiaries of the work, with specificity, and show the potential value of the proposed work to the needs of the targeted audience. Identify any obstacles to accomplishing the milestones and outcomes.

(6) Qualifications and Relevant Experience: Identify the qualifications and relevant experience of the applicant (and partners) that relate to accomplishing the Program Priorities listed above.

(7) Vitae: An abbreviated Curriculum Vitae for the PI and any co-investigators should be included. Reference lists should be limited to all publications in the last three years with up to five other relevant papers.

(8) Summary of the applicant's relevant current or recently completed (limit to past five years) research activities that should be considered in the selection process.

(9) Detailed Statement of Work: The proposal should provide a detailed four-year plan for climate and weather research and applications conducted to understand, and provide the basis for, improved public and private assessment of environmental, economic, and social impacts. The following areas must be addressed:

(a) Statement of the problem and the needed research.

(b) Proposed methodology and justification for the development and implementation of appropriate research needed to accomplish the goals and address the Program Priorities. Identify the expected results, including products and applications from the work, how the proposed work will significantly address identified science and management needs, and the benefits of the proposed work to the general public, the scientific community, coastal managers, and the decision makers.

(c) Procedures for dissemination and presentation of research results to the intended beneficiaries, and any training needed for users to make full use of the results.

(d) Measures to track research and applications performance.

In addition, the applicant should document: The readiness of needed infrastructure; the nature, ease, and effectiveness of interaction with scientists at the National Climatic Data Center and the Coastal Services Center, and other NOAA programs as appropriate; the status of any ongoing efforts by the applicant and partners to address the proposed scientific goals and objectives; and the results from related projects previously and presently supported by NOAA.

(10) Budget: Applicants must submit a budget description and a brief narrative justification of the budget. The budget should be prepared using the Standard Form 424A, Budget Information—Non-Construction Programs. The form is included in the standard NOAA application kit. Provide a detailed budget breakdown and a brief narrative to provide the basis for the budget and the contribution of the applicant.

(11) Current and Pending Federal Support: Each investigator should submit a list that includes project title, supporting agency with grant number, investigator months, dollar value and duration. Requested values should be listed for pending Federal support.

Evaluation Criteria (With Weights)

Consideration for financial assistance will be given to those proposals that address the Program Priorities listed above and meet the following evaluation criteria. All proposals will be scored according to the following criteria:

(1) Scientific Merit (25 Points): Does the proposal document the intrinsic and exceptional scientific value of the proposed research, and applicability to the NCDC and the CSC as described in the Program Description and Program Priorities sections? Does the proposal show the ability to collaborate on research activities in the area of climate system variability impacts on regional scales; advanced observing and modeling of regional coastal ecosystem process; and response of natural and social systems to climate variability? Does the proposal show research abilities that will result in providing quality climate information that is socially and economically useful to decision makers at local, state, and regional levels, both public and private?

(2) Research Goals and Projects and Technical Approach (25 Points): Are the goals and objectives clearly articulated, relevant to the stated science and management need, and achievable within the proposed time frame? Are the research objectives quantifiable? Does the proposal describe how the applicant proposes to achieve the goals? Does the proposal display a sound methodology for both the research and applications agenda? Are the proposed specific research areas of exceptional scientific merit? What is the intrinsic scientific value of the proposed research?

(3) Ability to Build Coalitions and Partnerships (20 points): Does the proposal show the ability to build coalitions and partnerships with critical organizations and individuals (such as distinguished scientists, as well as potential researchers-in-training, universities, colleges, research institutions, state and local governments, and other public and private nonprofit organizations) and to facilitate collaboration and coordination to assure the accomplishment of the research goals? Does the proposal identify project partners, their respective roles, and their contributions/relationships to the proposed effort?

(4) Milestones, Time Lines, Outcomes, and Beneficiaries (15 Points): Does the proposal address target milestones, time lines, and desired outcomes? Is a user community clearly identified, and are members of the identified user community engaged in the design and execution of the project or its products? Does the proposal include an outreach and education component that will ensure the results are effectively applied to address the identified issues? Are there clear procedures for dissemination and presentation of the research results to the intended beneficiaries, including any training needed for users to make full use of the results? Does the proposal document the respective roles and responsibilities of the NCDC, the CSC, and the applicant for outreach and capacity building efforts?

(5) Budget (5 Points): Reasonableness of the proposed budget and time frame for the projects in relating to the work proposed. Does the proposal provide a detailed budget breakdown and a brief narrative to provide the basis for the budget?

(6) Qualifications and Relevant Experience (5 Points): Does the proposal identify the qualifications and relevant experience of the applicant (and partners) that relate to the Program Priorities? Are the proposers capable of conducting a project of the scope and scale proposed (i.e., scientific, professional, facility, and resources/capabilities)? Will appropriate partnerships be employed to achieve the highest quality content and maximum efficiency?

(7) Innovation (5 Points): Does the collaborator propose to develop novel concepts, approaches, measures or methods in basic research that will address the Program Priorities? Are they original and innovative?

Selection Procedures

All proposals will be evaluated in accordance with the above evaluation criteria by an independent peer review panel which may consist of both NOAA and non-NOAA Federal experts. The panel will review and discuss each proposal and make a consensus recommendation of the most meritorious and relevant proposal to the Selecting Officials.. The selecting officials are the Directors of the National Climatic Data Center and the Coastal Services Center.

The Selecting Officials may accept the proposal recommended by the review panel, or may select another proposal based on the following program policy factors: (a) Duplication of on-going Federal support; (b) ease and effectiveness of interaction with applicant; (c) history of institutional commitment to related endeavors. The successful proposal will be forwarded to the NOAA Grants Officer for action. The final budget may be negotiated after selection is made.

Other Requirements/Information

(1) Disposition of Unsuccessful Proposals. Proposals will be held in the Program Office until an award is made to the selected applicant and then destroyed.

(2) Federal Policies and Procedures Applicable to this announcement:

(a) The Department of Commerce Pre-Award Notification of Requirements for Grants and Cooperative Agreements contained in the Federal Register notice of October 1, 2001 (66 FR 49917), as amended by the Federal Register notice published on October 30, 2002 (67 FR 66109), is applicable to this solicitation.

(b) In accordance with Federal statutes and regulations, no person on grounds of race, color, age, sex, national origin, or disability shall be excluded from participation in, denied benefits of, or be subjected to discrimination under any program or activity receiving financial assistance. Telephone Device for the Deaf (TDD) capabilities are available through the National Climatic Data Center at 828-271-4010 between the hours of 8:30 a.m. and 5 p.m., Monday through Friday.

Paperwork Reduction Act

This notice contains collection-of-information requirements subject to the Paperwork Reduction Act. The use of Standard Forms 424, 424A, 424B, and SF-LLL has been approved by OMB under the respective control numbers 0348-0043, 0348-0044, 0348-0340, and 0348-0046. Notwithstanding any other provision of law, no person is required to respond to, nor shall any person be subject to a penalty for failure to comply with, a collection of information subject to the Paperwork Reduction Act, unless that collection displays a currently valid Office of Management and Budget control number.

Executive Orders 12866 and 12372

This notice has been determined to be not significant for purposes of E.O. 12866. Applications under this program are not subject to E.O. 12372, “Intergovernmental Review of Federal Programs.”

Administrative Procedure Act/Regulatory Flexibility Act

Notice and comment are not required under 5 U.S.C. 553(a)(2), or any other law, for rules relating to public property, loans, grants, benefits or contracts. Because notice and comment are not required, a Regulatory Flexibility Analysis, 5 U.S.C. 601 et seq., is not required and has not been prepared for this notice.

Dated: April 15, 2003.
Gregory W. Withee,
Assistant Administrator for Satellite and Information Services.

[FR Doc. 03-9857 Filed 4-21-03; 8:45 am]

BILLING CODE 3510-HR-P